DEPARTMENT OF THE INTERIOR

Minerals Management Service

Agency Information Collection Activities: Proposed Collection; Comment Request

AGENCY: Minerals Management Service (MMS), Interior.

ACTION: Notice of extension of an information collection (1010-0006).

SUMMARY: To comply with the Paperwork Reduction Act of 1995 (PRA), MMS is inviting comments on a collection of information that we will submit to the Office of Management and Budget (OMB) for review and approval. The information collection request (ICR) concerns the paperwork requirements in the regulations under 30 CFR part 256, “Leasing of Sulphur or Oil and Gas in the Outer Continental Shelf.”

DATES: Submit written comments by October 16, 2006.

ADDRESSES: You may submit comments by any of the following methods listed below. Please use the Information Collection Number 1010-0006 as an identifier in your message.

• Public Connect on-line commenting system, https://ocsconnect.mms.gov. Follow the instructions on the Web site for submitting comments.

• E-mail MMS at rules.comments@mms.gov. Identify with Information Collection Number 1010-0006 in the subject line.

• Fax: 703-787-1093. Identify with Information Collection Number 1010-0006.

• Mail or hand-carry comments to the Department of the Interior; Minerals Management Service; Attention: Rules Process Team (RPT); 381 Elden Street, MS-4024; Herndon, Virginia 20170-4817. Please reference “Information Collection 1010-0006” in your comments.

FOR FURTHER INFORMATION CONTACT: Cheryl Blundon, Rules Processing Team at (703) 787-1600. You may also contact Cheryl Blundon to obtain a copy, at no cost, of the regulations and the forms that require the subject collection of information.

SUPPLEMENTARY INFORMATION: Title: 30 CFR Part 256, “Leasing of Sulphur or Oil and Gas in the OCS.”

Form(s): MMS-150, MMS-151, MMS-152, MMS-2028, MMS-2028A.

OMB Control Number: 1010-0006.

Abstract: The Outer Continental Shelf (OCS) Lands Act, as amended (43 U.S.C. 1331 et seq., 43 U.S.C. 1801 et seq., and 31 U.S.C. 9701), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Also, the Energy Policy and Conservation Act of 1975 (EPCA) prohibits certain lease bidding arrangements (42 U.S.C. 6213 (c)).

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those that accrue to the public at large. Instruments of transfer of a lease or interest are subject to cost recovery, and MMS regulations specify the filing fees for these transfer applications.

These authorities and responsibilities are among those delegated to the MMS under which we issue regulations governing oil and gas and sulphur operations in the OCS. This information collection request addresses the regulations at 30 CFR part 256, Leasing of Sulphur or Oil and Gas in the OCS, and the associated supplementary notices to lessees and operators (NTLs) intended to provide clarification, description, or explanation of these regulations.

The MMS uses the information required to determine if applicants are qualified to hold leases in the OCS. Specifically, MMS uses the information to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the EPCA.

• Ensure the qualification of assignees. Once a lease is awarded, the transfer of a lessee's interest to another qualified party must be approved by an MMS regional director.

• Obtain information and nominations on oil and gas leasing, exploration, and development and production. Early planning and consultation ensure that all interests and concerns are communicated to us for future decisions in the leasing process.

• Document that a leasehold or geographical subdivision has been surrendered by the record title holder.

• Verify that lessees submit accurate leasing and adjudication documents. Respondents submit their forms: Assignment of Record Title Interest in Federal OCS Oil and Gas leases (Form MMS-150), Assignment of Operating Rights Interest in Federal OCS Oil and Gas Lease (Form MMS-151), and Relinquishment of Federal OCS Oil and Gas Lease. MMS uses these documents to: Track ownership in pipeline ROW; track ownership of leases; and to determine active vs. non-active leases so that those leases that are relinquished by a company are recycled into a lease sale.

• Verify that lessees have adequate bonding coverage. Respondents must submit their bonds certification forms: Form MMS-2028, Outer Continental Shelf Mineral Lessee's and Operator's Bond, and Form MMS-2028A, Outer Continental Shelf Mineral Lessee's and Operator's Supplemental Plugging & Abandonment Bond. MMS uses these documents to hold the surety libel for the obligations and liability of the principal/lessee or operator.

We will protect information from respondents considered proprietary under the Freedom of Information Act (5 U.S.C. 552) and its implementing regulations (43 CFR part 2) and under regulations at 30 CFR parts 250, 251, and 252. The individual responses to Calls for Information are the only information collected involving the protection of confidentiality. MMS will protect specific individual replies from disclosure as proprietary information according to section 26 of the OCS Lands Act and § 256.10(d). No items of a sensitive nature are collected. Responses are mandatory or required to obtain or retain a benefit.

Frequency: On occasion.

Estimated Number and Description of Respondents: Approximately 130 oil and gas and sulphur lessees.

Estimated Reporting and Recordkeeping “Hour” Burden: The currently approved annual reporting burden for this collection is 21,080 hours. The following chart details the individual components and respective hour burden estimates of this ICR. In calculating the burdens, we assumed that respondents perform certain requirements in the normal course of their activities. We consider these to be usual and customary and took that into account in estimating the burden.

Citation 30 CFR Part 256 | Reporting requirement | Hour burden
Subparts A, C, E, H, L, M | None | Not applicable.
Subparts G, H, I, J: 37; 53; 68; 70; 71; 72; 73 | Request approval for various operations or submit plans or applications | Burden included with other approved collections in 30 CFR Part 250 (1010-0114, 1010-0141, 1010-0142, 1010-0149, 1010-0151).
Subpart B: All sections | Submit suggestions and relevant information in response to request for comments on proposed 5-year leasing program, including information from States/local governments | 4.
Subpart D: All sections | Submit response to Call for Information and Nominations on areas for leasing of minerals in specified areas in accordance with an approved leasing program, including information from States/local governments | 4.
Subpart F: 31 | States or local governments submit comments/recommendations on size, timing or location of proposed lease sale | 4.
Subpart G: 35; 46(d), (e) | Establish a Company File for qualification; submit updated information, submit qualifications for lessee/bidder, request exception | 2.
41; 43; 46(g) | Submit qualification of bidders for joint bids and statement or report of production/appeal | 2.
44; 46 | Submit bids and required information | 5.
47(c) | File agreement to accept joint lease on tie bids | 3½.
47(e)(1), (e)(3) | Request for reconsideration of bid rejection | Exempt as defined in 5 CFR 1320.3(h)(9).
47(f), (i); 50 | Execute lease (includes submission of evidence of authorized agent and request for dating of leases) | 1.
Subpart I:
52(f)(2), (g)(2) | Submit authority for Regional Director to sell Treasury or alternate type of securities | 2.
53(a), 53(b); 54 | OCS Mineral Lessee's and Operator's Bond (form MMS-2028) | ¼.
53(c), (d), (f); 54(d), 54(e) | Demonstrate financial worth/ability to carry out present and future financial obligations, request approval of another form of security, or request reduction in amount of supplemental bond required | 3½.
54 | OCS Mineral Lessee's and Operator's Supplemental Plugging & Abandonment Bond (form MMS-2028A) | ¼.
55 | Notify MMS of any lapse in previous bond/action filed alleging lessee, surety, or guarantor is insolvent or bankrupt | 1.
56 | Provide plan/instructions to fund lease-specific abandonment account and related information; request approval to withdraw funds | 12.
57 | Provide third-party guarantee, indemnity agreement, financial information, related notices, reports, and annual update; notify MMS if guarantor becomes unqualified | 19.
57(d)(3); 58 | Notice of and request approval to terminate period of liability, cancel bond, or other security | ½.
59(c)(2) | Provide information to demonstrate lease will be brought into compliance | 16.
Subpart J:
62; 64; 65; 67 | File application and required information for assignment or transfer for approval/comment on filing fee (forms MMS-150 and MMS-151) | 1.
64(a)(7); | File required instruments creating or transferring working interests, etc., for record purposes | 1.
64(a)(8) | Submit non-required documents, for record purposes, which respondents want MMS to file with the lease document | Accepted on behalf of lessees as a service, MMS does not require nor need the filings.
Subpart K:
76 | File written request for relinquishment (form MMS-152) | 1.
77(c) | Comment on lease cancellation (MMS expects 1 in 10 years) | 1.

Estimated Reporting and Recordkeeping “Non-Hour Cost” Burden: The currently approved “non-hour cost” burden for this information collection is a total of $537,000. This cost burden is for filing fees associated with submitting requests for approval of instruments of transfer ($170 per application) or to file non-required documents for record purposes ($25 per filing).

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: MMS's practice is to make comments, including names and addresses of respondents, available for public review. If you wish your name and/or address to be withheld, you must state this prominently at the beginning of your comment. MMS will honor this request to the extent allowable by law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz, (202) 208-7744.

Dated: August 8, 2006.
E.P. Danenberger,
Chief, Office of Offshore Regulatory Programs.

[FR Doc. E6-13383 Filed 8-15-06; 8:45 am]

BILLING CODE 4310-MR-P